NUCLEAR REGULATORY COMMISSION

[Docket No. 40-9091; NRC-2011-0148]

Strata Energy, Inc.; Ross Uranium In Situ Recovery Facility; Source and Byproduct Materials License

AGENCY: Nuclear Regulatory Commission.

ACTION: Final environmental assessment and finding of no significant impact; issuance.

SUMMARY: The U.S. Nuclear Regulatory Commission (NRC) is considering an amendment of Source and Byproduct Materials License SUA-1601 to modify a License Condition for the Strata Energy, Inc. (Strata) Ross In Situ Recovery (ISR) Project. Specifically, Strata is requesting that NRC approve a modification to License Condition 11.3(C) for Mine Units Nos. 1 and 2 (MU1 and MU2) that would reduce the number of monitoring wells placed in the underlying aquifer. The NRC has prepared a final environmental assessment (EA) and finding of no significant impact (FONSI) for this licensing action.

DATES: The final EA and FONSI referenced in this document were available on January 17, 2018.

ADDRESSES: Please refer to Docket ID NRC-2011-0148 when contacting the NRC about the availability of information regarding this document. You may obtain publicly-available information related to this document using any of the following methods:

• Federal Rulemaking website: Go to http://www.regulations.gov and search for Docket ID NRC-2011-0148. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or via email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Jessie Muir Quintero, Office of Nuclear Material Safety and Safeguards, U.S. Nuclear Regulatory Commission, Washington, DC 20555-0001; telephone: 301-415-7476; email: Jessie.Quintero@nrc.gov.

SUPPLEMENTARY INFORMATION:

I. Introduction

The NRC is considering amending License Condition 11.3(C) of License SUA-1601 issued to Strata. As required by part 51 of title 10 of the Code of Federal Regulations (10 CFR), the NRC prepared a final EA (ADAMS Accession No. ML17360A222). Based on the results of the final EA, described as follows, the NRC has determined not to prepare an environmental impact statement (EIS) for the amendment, and is issuing a FONSI.

II. Environmental Assessment

Description of the Proposed Action

The proposed action would amend License Condition 11.3(C) of Strata's Ross license. Strata's amendment request (ADAMS Accession No. ML17103A262) would reduce the number of monitoring wells in the designated underlying aquifer.

Need for the Proposed Action

The proposed action would reduce Strata's burden of routine monitoring of low-yielding wells.

Environmental Impacts of the Proposed Action

The NRC assessed the environmental impacts to ground water as a result of amending License Condition 11.3 (C) and determined that there would be no significant impact to ground-water quality. The NRC determined the proposed changes to the License Condition—reduction in the number of monitoring wells in the underlying aquifer within MU1 and MU2—would still maintain Strata's ability to identify vertical exclusions into the underlying aquifer at MU2 where the unit has the potential to transmit water.

Environmental Impacts of the Alternatives to the Proposed Action

As an alternative to the proposed action, the NRC staff considered denial of the proposed action (i.e., the “no-action” alternative). The No-Action Alternative would mean that the NRC would not approve the requested change to License Condition 11.3 (C). The No-Action alternative would result in Strata operating the Ross project as currently licensed, thus the impacts would be the same as those already considered in the Ross Supplemental EIS and the EA prepared for License Amendment No. 7 (ADAMS Accession Nos. ML14056A096 and ML17191A371, respectively).

Agencies and Persons Consulted

On December 01, 2017, the NRC staff sent a copy of the draft EA to the Wyoming Department of Environmental Quality (DEQ) for their review and comment (ADAMS Accession No. ML17335A567). The Wyoming DEQ responded on January 2, 2018, with no comments on the draft EA (ADAMS Accession No. ML18003A749).

III. Finding of No Significant Impact

Based on its review of the proposed action, and in accordance with the requirements in 10 CFR part 51, the NRC staff has determined that amending License Condition 11.3(C) for the Ross ISR project would not significantly affect ground-water quality. The NRC staff has determined that pursuant to 10 CFR 51.31, preparation of an EIS is not required for the proposed action and, pursuant to 10 CFR 51.32, a FONSI is appropriate.

On the basis of the final EA, the NRC concludes that the proposed action will not have a significant effect on the quality of the human environment. Accordingly, the NRC has determined not to prepare an EIS for the proposed action.

Dated at Rockville, Maryland, this 23rd day of January 2018.
For the U.S. Nuclear Regulatory Commission.
Craig G. Erlanger,
Director, Division of Fuel Cycle Safety, Safeguards and Environmental Review, Office of Nuclear Material Safety and Safeguards.

[FR Doc. 2018-01522 Filed 1-26-18; 8:45 am]

BILLING CODE 7590-01-P